DEPARTMENT OF COMMERCE

National Oceanic and Atmospheric Administration

[Docket No.: 000616180-3103-07]

RIN 0648-ZA91

NOAA Climate and Global Change Program, Program Announcement

AGENCY: Office of Global Programs, Office of Oceanic and Atmospheric Research, National Oceanic and Atmospheric Administration, Department of Commerce.

ACTION: Notice.

SUMMARY: The Climate and Global Change Program represents a National Oceanic and Atmospheric Administration (NOAA) contribution to evolving national and international programs designed to improve our ability to observe, understand, predict, and respond to changes in the global environment. This program builds on NOAA's mission requirements and long-standing capabilities in global change research and prediction. The NOAA Program is a key contributing element of the U.S. Global Change Research Program (USGCRP), which is coordinated by the interagency Committee on Environmental and Natural Resources. NOAA's program is designed to complement other agencies' contributions to that national effort.

All proposals must be submitted in accordance with the requirements below. Failure to heed these guidelines will result in proposals being returned without review.

DATES: Unless otherwise noted, strict deadlines for submission to the FY 2004 process are: Full Proposals must be received at the Office of Global Programs no later than 5 p.m. EDT 60 Business Days after the Announcement appears in the Federal Register. Letters of Intent should be received at the Office of Global Programs no later than 5 p.m. EDT 20 Business Days after the Announcement appears in the Federal Register.

ADDRESSES: Full Proposals must be submitted to: NOAA Office of Global Programs; 1100 Wayne Avenue, Suite 1210; Silver Spring, MD 20910-5603. It is important to note that Full Proposals may not be submitted via facsimile or e-mail.

General Information Contact: Diane Brown at the above address, or diane.brown@noaa.gov 301-427-2089 ext. 107, fax: 301-427-2222.

SUPPLEMENTARY INFORMATION:

1. Funding Availability

NOAA believes that the Climate and Global Change Program will benefit significantly from a strong partnership with outside investigators. Please be advised that actual funding levels will depend upon the final FY 2004 budget appropriations. In FY 2002, approximately $6,000,000 in first year funding was available for approximately 60 new awards.

This Program Announcement is for projects to be conducted by investigators outside the Federal Government, primarily over a one-, two- or three-year period. The NOAA Climate and Global Change Program has been approved for multi-year funding up to a three-year duration. The funding instrument for awards will be a grant unless it is anticipated that NOAA will be substantially involved in the implementation of the project, in which case the funding instrument should be a cooperative agreement. Examples of substantial involvement may include, but are not limited to, proposals for collaboration between NOAA or NOAA scientists and a recipient scientist or technician and/or contemplation by NOAA of detailing Federal personnel to work on proposed projects. NOAA will make decisions regarding the use of a cooperative agreement on a case-by-case basis. Funding for contractual arrangements for services and products for delivery to NOAA is not available under this announcement. Matching share is not required by this program.

2. Program Authority

49 U.S.C. 44720 (b); 33 U.S.C. 883d; 15 U.S.C. 2904; 15 U.S.C. 2931-2934; (CFDA No. 11.431)—Climate and Atmospheric Research.

3. Program Elements

In FY 2004, NOAA will only accept individual proposals in the Main Program Elements listed below. The names, affiliations and phone numbers of relevant Climate and Global Change Program Managers are provided. Investigators are encouraged to visit the Climate & Global Change Program Web page (http://www.ogp.noaa.gov/) for general program information prior to submitting full proposals. Applicants may also communicate with Program Managers for information.

(A) Atmospheric Composition and Climate (ACC)

The Atmospheric Composition and Climate Program pursues two overall research objectives: (1) to improve the predictive understanding of the radiative forcing of the climate system by aerosols and by chemically-active greenhouse gases, such as tropospheric ozone and methane, and (2) to better characterize the recovery of the stratospheric ozone layer, including its role in climate change. The integrated research activities that address these objectives involve instrument development, global observations, laboratory studies, and theoretical modeling by NOAA and extramural partners. A hallmark of the Program is that its objectives are cooperatively framed with both national and international collaborators. Nationally, the Program's aerosol research is part of the interagency National Aerosol Climate Interaction Program (NACIP). Internationally, the Program's research contributes to the projects of the International Global Atmospheric Chemistry (IGAC) program of the International Geosphere-Biosphere Program (IGBP), and the Stratospheric Processes and their role in Climate (SPARC) program of the World Climate Research Program (WCRP).

For FY 2004, proposals are encouraged that support three activities:

(1) Intercontinental Transport and Chemical Transformation (ITCT)—a part of IGAC. The interagency-international ITCT-2K4 study is aimed at providing observational data and diagnostic studies needed to evaluate and improve model estimates of the outflow of chemicals from North America across the Atlantic Ocean and to evaluate the impact of these compounds on the radiative balance and chemistry of the atmosphere over the Eastern United States and North Atlantic. Proposals are encouraged that target: (a) Development of measurement techniques related to this study (and other such field studies), (b) carrying out atmospheric measurements needed to determine the sources and processes that govern the distribution of ozone and the distribution and chemical/radiative properties of aerosols over this region, and (c) development, evaluation, and application of theoretical models that can simulate these chemical/radiative effects and their influence on the radiative balance in the earth's atmosphere.

(2) Regular vertical profiling of aerosols. NOAA is expanding its effort at carrying out regular measurements of aerosols and their properties at selected sites using small aircraft. Proposals are sought that focus on developing measurement techniques that are applicable to such studies.

(3) Aerosol indirect effects. In addition, proposals are encouraged for developing and carrying out new techniques and approaches to understanding the relation between the atmospheric concentration and chemical composition of aerosols and their effect on cloud microphysics and radiative properties.

More information about these activities can be found on the Internet: http://www.al.noaa.gov/WWWHD/pubdocs/ and the Atmospheric Composition and Climate Home page: http://www.ogp.noaa.gov/mpe/atmochem. For further information, investigators may contact one of the NOAA program managers, Kea Duckenfield of the Office of Global Programs (Kea.Duckenfield@noaa.gov, 301-427-2089 ext. 112, fax: 301-427-2073) or Fred C. Fehsenfeld of the Aeronomy Laboratory (fcf@al.noaa.gov, 303-497-5819).

(B) Climate Observation

The goal of this element is to build and sustain the global climate observing system that is needed to satisfy the long-term observational requirements of the operational forecast centers, international research programs, and major scientific assessments. The element supports in-situ ocean components that contribute to global networks for understanding climate variability and change, the global water cycle, and the global carbon cycle, and looks for efficiencies to be gained by utilizing common platforms/sites/data infrastructure for several objectives in parallel. This program element will not accept applications for new projects in FY 2004. For further information, investigators may contact the NOAA program manager, Michael Johnson (Mike.Johnson@noaa.gov, 301-427-2089 ext. 169, fax: 301-427-2073).

(C) Climate and Societal Interactions (CSI)

Research on Vulnerability, Opportunities, and Response Options. Variability, change, and surprise results from a wide variety of climatological, social, economic and ecological circumstances and interactions. The purpose of this program is to increase understanding of the impacts of climate variability and change as conditioned by ongoing processes of decision-making and socio-economic transformation. The suite of efforts is intended to further research-based integration between studies of the whole of the climate system, including human components, such as health, and evolving informational and educational needs of decision-makers in climate sensitive sectors around the world. The goal is to provide the basis for more effective application of climate information, including climate forecasts, for purposes of adaptation. The intent of this program is to encourage overlapping research approaches to integrate knowledge for problem solving. The CSI is a chapeau for a suite of activities. CSI Web site information is available at: http://www.ogp.noaa.gov/mpe/csi/index.htm. Prospective applicants must apply to one of the following CSI program elements:

Human Dimensions of Global Change Research (HDGCR)—One of the main goals of the HDGCR program is understanding and analyzing the decision process as it relates to information about a dynamic climate system. The program is interested in building on analyses, modeling, and field work of societal adaptation to climate and the use of scientific information. For further information, investigators may contact one of the NOAA program managers, Nancy Beller-Simms (Nancy.Beller-Simms@noaa.gov, 301-427-2089 ext. 180, fax: 301-427-2082) or Caitlin Simpson (Caitlin.Simpson@noaa.gov, 301-427-2089 ext. 152, fax: 301-427-2082).

Climate Variability and Health Program (CVHP)—It is anticipated that a joint interagency and private sector announcement of opportunity for research on climate variability and human health will be published in a future Federal Register Notice. For more information, investigators may contact the NOAA program manager, Juli Trtanj (Juli.Trtanj@noaa.gov, 301-427-2089 ext. 134).

Regional Integrated Sciences and Assessments (RISA)—The Regional Integrated Sciences and Assessments (RISA) program possesses three distinct qualities: (1) Interdisciplinary, integration and synthesis; (2) Bridging the gap between climatic, environmental and societal interactions on different temporal and spatial scales; and (3) Decision support and services. It requires innovative partnerships among a spectrum of interested parties (Federal, State, local and private) to enable regional organizational capacity to develop accurate (i.e., identifying risks, uncertainties, and/or indeterminacies), balanced syntheses and services on an ongoing basis. As such, the program relies heavily on consolidating the results and data from ongoing NOAA-OGP disciplinary program elements, already funded in a region, into an integrated framework. This program will not accept applications to initiate new activities. For further information, investigators may contact the NOAA program manager, Harvey Hill (Harvey.Hill@noaa.gov, 301-427-2089 ext. 197, fax: 301-427-2082).

Environment, Science and Development (ESD)—The goal of the ESD program is to enhance our understanding of societal capacity to adapt to climate in the context of integrated environment, science and development issues. The program is designed to stimulate and support solution-oriented, place-based research most relevant to the influence of climate on development objectives and disaster preparedness. ESD seeks to apply this knowledge to improve the institutional, scientific and technical capacity needed to successfully apply climate information to practical challenges associated with sustainable development. Collaborative, multi-disciplinary proposals are encouraged. For more information, investigators may contact one of the NOAA program managers, Lisa Farrow Vaughan (Lisa.Vaughan@noaa.gov, 301-427-2089 ext. 132, fax: 301-427-2082) or Candyce Clark (Candyce.Clark@noaa.gov, 301-427-2089 ext. 114, fax: 301-427-2082).

(D) Climate Change Data and Detection (CCDD)

The scientific goals of this element include efforts to: (1) Provide data and information management support to assure the availability of critical data sets for a variety of international programs and assessments of primary interest to NOAA's C&GC Program, e.g., WCRP (World Climate Research Program) and IGBP (International Geosphere Biosphere Program), GCOS (the Global Climate Observing System), the IPCC (Intergovernmental Panel on Climate Change), as well as national programs and assessments, e.g., Pan-American Climate Studies (PACS), U.S. CLIVAR (Climate Variability and Predictability) Program, the U.S. National Climate Assessment, the Tri-lateral North American Climate Extremes Assessment, etc.; (2) develop, quality control, and evaluate data sets and quantify time-dependent biases (homogeneity) for cross-cutting science necessary to improve our ability to describe, understand, and predict seasonal, interannual, decadal, and longer-term climate variations and changes; (3) calibrate, validate, and blend existing data sets from a variety of observing systems, including space-based, in-situ, and model-data (data set enrichment); (4) document the quantitative character of observed climate variations and changes (climate change detection); and (5) attribute changes in the observed climate record to specific climate forcings (climate change attribution).

For further information, investigators may contact one of the NOAA program managers, Chris Miller (Christopher.D.Miller@noaa.gov, 301-427-2089 ext.143, fax: 301-427-2073) or Bill Murray (William.L.Murray@noaa.gov, 301-427-2089 ext. 133, fax: 301-427-2073). Additional information may also be obtained from the DOE contact, Rick Petty (Rick.Petty.oer.doe.gov, 301-903-5548); or the NSF contact, David Verardo (dverardo@nsf.gov, 703-292-8527).

(E) Climate Dynamics and Experimental Prediction (CDEP)

Climate Dynamics and Experimental Prediction, through a set of Applied Research Centers (ARCs), supports NOAA's program for quantitative assessments and predictions of global climate variability and its regional implications on time scales of seasonal to centennial. The ARCs employ dynamical models in diagnostic and predictive mode as central integrators in a program of research, development and experimental applications intended to improve the National capability to predict the Earth's climate system. In FY 2004, this program will not accept applications for new Centers. For further information, investigators may contact the NOAA program manager, Anjuli Bamzai (Anjuli.Bamzai@noaa.gov, 301-427-2089 ext. 113, fax: 301-427-2073).

(F) Climate Variability and Predictability (CLIVAR)

The U.S. CLIVAR program seeks to observe, model and understand patterns of climate variability on seasonal to decadal time scales and to assess the predictability of such climate variability. The ultimate goal of NOAA's participation in CLIVAR is to develop skilful predictions of climate variability and change on seasonal to multi-decadal time scales and regional spatial scales for optimal use in resource planning and policy decision making. The program is designed to understand global climate variability; to determine the spatial and temporal extent to which this variability is predictable; to develop the observational, theoretical, and computational means to predict variability; and to make enhanced predictions, where feasible. NOAA's research focuses on large-scale recurrent patterns of variability that influence climate on the regional scale, particularly over the U.S. Among these patterns are the El Nino-Southern Oscillation (ENSO), Pacific Decadal Oscillation (PDO), Tropical Atlantic Variability (TAV), the North Atlantic Oscillation (NAO), and the American monsoon systems.

NOAA's CLIVAR programs focus on improving seasonal to interannual climate prediction (Pan American Climate Studies program) and assessing global climate variability and change on seasonal to decadal and centennial time scales (CLIVAR Atlantic and CLIVAR Pacific programs). For an information sheet containing further details for research in each of these regions, visit NOAA's CLIVAR Web site at: http://www.ogp.noaa.gov/mpe/clivar/index.htm.

For further information on CLIVAR Atlantic, investigators may contact the NOAA program manager, James Todd (James.Todd@noaa.gov, 301-427-2089 ext. 139, fax: 301-427-2073). For further information on CLIVAR Pacific, investigators may contact the NOAA program manager, Ming Ji (Ming.Ji@noaa.gov, 301-427-2089 ext. 189, fax: 301-427-2073). For further information on Pan American Climate Studies (PACS), investigators may contact the NOAA program manager, Michael Patterson (Michael.Patterson@noaa.gov, 301-427-2089 ext. 102, fax: 301-427-2073).

(G) PACS/GAPP North American Warm Season Precipitation

The goal of this joint PACS/GAPP North American Warm Season Precipitation initiative is to improve understanding and prediction of warm season precipitation over North America through studies of North American monsoon system, with emphasis on seasonal to inter-annual time scales. The initiative's objectives include: (1) Better understanding and more realistic simulation of the evolution of the North American monsoon system and its variations; (2) better understanding and more realistic simulation of the response of the warm season atmospheric circulation and precipitation patterns to slowly varying boundary conditions (e.g., SST, soil moisture); (3) better understanding of the role of the North American monsoon system in the global water cycle and regional climate variability; (4) improved intraseasonal to interannual prediction of the North American monsoon system and regional water resources. More information is available at the PACS and GAPP Web sites: http://www.ogp.noaa.gov/mpe/clivar/pacs/index.htm and http://www.ogp.noaa.gov/mpe/gapp/gapp/index.htm. For further information, investigators may contact one of the NOAA program managers, Michael Patterson (michael.patterson@noaa.gov, 301-427-2089 ext. 102, fax: 301-427-2073) or Jin Huang (jin.huang@noaa.gov, 301-427-2089 ext. 148, fax: 301-427-2073).

(H) GEWEX Americas Prediction Project (GAPP)

GAPP is jointly supported by NOAA and NASA. Initiatives are solicited which have a geographical focus on the western USA or the Mississippi River Basin, and address the following GAPP priorities:

1. Land Surface Memory Processes: The anticipated availability of the regional reanalysis in the autumn of 2003 will provide new opportunities to study the effects of land processes over the GAPP study area on seasonal and interannual time scales. Proposals linking the regional reanalysis products to studies of vegetation, soil moisture and snow and their roles in the seasonal predictability of precipitation and streamflow are encouraged. The use of regional reanalysis and satellite data in regional water and energy budget studies is also encouraged. Other land memory process studies and modeling studies in the GAPP region will also be considered, particularly if they contribute to the understanding of the predictability of precipitation or new applications of satellite data in climate research.

2. Orographic Processes: Studies linking the meteorology and hydrology of the Western Cordillera are encouraged. These studies could involve process studies or studies on seasonal time scales with high spatial resolution. Phenomena of significant interest include precipitation, snow pack formation and melt, and runoff generation. The contributions of satellite data to resolving mountain processes will also be considered.

In addition, consideration will be given to studies related to the role of land in seasonal to interannual predictability, the Coordinated Enhanced Observing Period (CEOP) and water resources where demonstrable gaps exist in the current GAPP program.

Details about GAPP are available through the GAPP Science Plan and on the GAPP Web site at: http://www.ogp.noaa.gov/mpe/gapp/index.htm. For further information, investigators may contact one of the NOAA program managers, Rick Lawford (Rick.Lawford@noaa.gov, 301-427-2089 ext. 146, fax: 301-427-2073), or Jin Huang (Jin.Huang@noaa.gov, 301-427-2089 ext.148, fax: 301-427-2073). Information may also be obtained from the NASA program contact, Jared Entin (jentin@hq.nasa.gov, 202-358-1847).

(I) Global Carbon Cycle (GCC)

The U.S. Interagency Carbon Cycle Science Program (CCSP) seeks to answer two overarching questions: (1) How large and variable are the dynamic reservoirs and fluxes of carbon within the Earth system, and how might carbon cycling change and be changed in future years, decades and centuries?, and (2) What are our options for managing carbon sources and sinks to achieve an appropriate balance of risk, costs, and benefits to society? For further information on the interagency program, please consult the web at: http://www.carboncyclescience.gov.

NOAA's participation in the U.S. program focuses on three main goals: (1) Quantifying spatial patterns and variability of carbon sources and sinks at global to regional scales; (2) Documenting the fate of anthropogenic CO2 in the atmosphere and oceans; and (3) Improving future climate predictions by incorporating a dynamical understanding of the carbon cycle into models. To achieve these goals, the GCC program focuses on oceanic and atmospheric observations, process-oriented field studies and modeling. Information and current project abstracts can be found on the web at: http://www.ogp.noaa.gov/mpe/gcc/index/html.

For further information, investigators may contact the NOAA program manager, Kathy Tedesco (Kathy.Tedesco@noaa.gov, 301-427-2089 ext. 119, fax: 301-427-2073).

4. Eligibility

Eligible applicants are institutions of higher education, other nonprofits, commercial organizations, international organizations, state, local and Indian tribal governments. Proposals selected for funding will be funded through a project grant or cooperative agreement under the terms of this notice.

5. Letters of Intent (LOI)

The purpose of the LOI process is to provide information to potential applicants on the relevance of their proposed project to the Climate and Global Change Program and the likelihood of it being funded in advance of preparing a full proposal. While it is in the best interest of the applicants and their institutions to submit an LOI, it is not a requirement; applicants who do not submit an LOI are allowed to submit a full proposal. Full proposals will be encouraged only for LOIs deemed relevant.

The LOI should provide a concise description of the proposed work and its relevance to the targeted program element. The LOI should include the components listed below. If these components are not included, the LOI risks a delayed response and may not be considered by the program reviewers. (A) Identification of the program element that is being targeted in the LOI. (B) Specification of a tentative project title in the LOI. (C) Name(s) and institution(s) of all principal investigator(s), and specification of which individual is the Lead principal Investigator. LOIs should be no more than two pages in length and must include a statement of the problem, brief summary of work to be completed, methodology to be used, and approximate cost of the project. LOIs are encouraged to be submitted by facsimile or e-mail to the identified NOAA program element's program manager.

A panel of program managers will review each LOI to determine whether the LOI is responsive to the program goals as advertised in this notice. An LOI response (e-mail or letter) will be sent back to the investigator encouraging or discouraging a full proposal. The final decision to submit a full proposal will be made by the investigator.

6. Evaluation Criteria

Evaluation criteria for proposals are:

(A) Scientific/Technical Merit: Intrinsic scientific value of the subject and the study proposed. (50%)

(B) Importance/Relevance and Applicability: Importance and relevance to the goals of the selected Program Element(s). (See Program Elements descriptions above.) (50%)

7. Selection Procedures

Proposals will be evaluated in accordance with the above evaluation criteria by (A) independent peer mail reviewers, and/or (B) independent peer panel reviewers consisting of both Federal and non-Federal experts. Only mail reviewers may be used if only a few applications are received. If peer panel reviewers evaluate all proposals, only their ratings may be used to establish the rank order.

The peer mail reviewers and peer panel reviewers rate each proposal using the above two evaluation criteria. The proposals will be scored from 1, for poor, to 5, for excellent, on Scientific/Technical Merit and from 1, for low, to 5, for high, on Importance/Relevance. The scores from each reviewer for each proposal will be averaged to produce an average numerical score for the proposal. The average scores for all proposals result in a numerical rank order.

Occasionally a reviewer may, due to lack of familiarity in a particular area, choose not to score a particular proposal. The scores from each peer panel reviewer for each proposal will be averaged to produce a single numerical score for the proposal. The average scores for all proposals result in a numerical rank order within each program element.

If peer mail review and peer panel review are both conducted, the available peer mail reviews will be provided to the peer review panel for use in its deliberations prior to providing its ratings.

If only a mail peer review was conducted, the Program Manager will use the rank numerical order of the mail reviews to determine funding recommendations. If only a peer panel review or both a peer panel review and a peer mail review were conducted, the Program Manager will use the numerical rank order of the peer review panel to determine funding recommendations.

Normally, the Program Manager will recommend proposals to the Selecting Official in numerical rank order. Infrequently, the Program Manager may recommend a proposal out of numerical rank order based upon one or more of the following selection factors: (1) Duplication with other projects that are funded or considered for funding by NOAA or other federal agencies, (2) applicant's prior award performance, (3) program priorities and policy factors described with each program element above, (4) balance/distribution of funds across program elements. The Program Manager will also determine the total duration of funding and the amount of funding for each selected proposal, which may be less than proposal and budget requested.

The Program Manager submits his/her recommendations to the Selecting Official who reviews the recommendations. The Selecting Official may reject or accept the recommendation for any proposal selected out of numerical rank order based upon any of the above selection factors, as well as upon the availability of funding. The Selecting Official then presents his/her recommendations to the Grants Management Division.

Unsuccessful applications will be retained for 1 year and then destroyed.

8. Proposal Submission

The following forms are required in each application, with original signatures on each federal form. Failure to comply will result in proposal application being returned.

(A) Full Proposals: (1) Proposals submitted to the NOAA Climate and Global Change Program must include the original and two unbound copies of the proposal. (2) Investigators are required to submit 3 copies of the proposal, however, the normal review process requires 15 copies. For an optimal review, investigators are encouraged to submit sufficient proposal copies, especially color or unusually sized (not 8.5″x11″), or otherwise unusual materials submitted as part of the proposal. Only three original copies of the Federally-required forms are needed. (3) Proposals must be limited to 30 pages (numbered), including budget, investigators vitae, and all appendices, and should be limited to funding requests for one to three year duration. Appended information may not be used to circumvent the page length limit. Federally-mandated forms are not included within the page count. (4) Proposals should be sent to the NOAA Office of Global Programs at the above address. (5) Facsimile transmissions and electronic mail submission of full proposals will not be accepted.

(B) Required Elements: All proposals must include the following elements: (1) Signed title page: The title page should be signed by the Principal Investigator (PI) and the institutional representative and should clearly indicate which program element is being addressed. If more than one investigator is listed on the title page, please identify the lead investigator. The PI and institutional representative should be identified by full name, title, organization, telephone number and address. The total amount of Federal funds being requested should be listed for each budget period. (2) Abstract: An abstract must be included and should contain an introduction of the problem, rationale and a brief summary of work to be completed. The abstract should appear on a separate page, headed with the proposal title, institution(s), investigator(s), total proposed cost and budget period. (3) Results from prior research: The results of each prior research project (during the last 3 years) relevant to the proposed effort should be summarized in brief paragraphs. This section should not exceed two pages. (4) Statement of work: The proposed project must be completely described, including identification of the problem, scientific objectives, proposed methodology, relevance to the goal of the Climate and Global Change Program, and the program priorities listed above. Benefits of the proposed project to the general public and the scientific community should be discussed. The statement of work, including references but excluding figures and other visual materials, must not exceed 15 pages of text. Investigators wishing to submit group proposals that exceed the 15 page limit should discuss this possibility with the appropriate Program Manager prior to submission. Proposals from 3 or more investigators may include a statement of work containing up to 15 pages of overall project description plus up to 5 additional pages for individual project descriptions. (5) Budget Justification: A brief description of the expenses listed on the budget and how they address the proposed work. Item justifications must include salaries, equipment, publications, supplies, tuition, travel, etc. (6) Budget: The proposal must include total and annual itemized budgets corresponding with the descriptions provided in the statement of work. Non-Federal Applicants must submit a Standard Form 424 (7-97) “Application for Federal Assistance,” including a detailed budget using the Standard Form 424a (7-97), “Budget Information—Non-Construction Programs.” Travel must be itemized to include destination, airfare, per diem, lodging and ground travel. The form is included in the standard NOAA application kit. (7) Vitae: Abbreviated curriculum vitae are sought with each proposal. Reference lists should be limited to all publications in the last three years with up to five other relevant papers. (8) Current and pending support: For each investigator, submit a list that includes project title, supporting agency with grant number, investigator months per year, dollar value and duration. Requested values should be listed for pending support.

(C) Other requirements: Applicants may obtain a standard NOAA application kit from the OGP Web page: http://www.ogp.noaa.gov/grants/appkit.htm.

9. Lower Tier Certifications

(A) The total dollar amount of the indirect costs proposed in an application under this program must not exceed the indirect cost rate negotiated and approved by a cognizant Federal agency prior to the proposed effective date of the award or 100 percent of the total proposed direct cost dollar amount in the application, whichever is less.

(B) If an application is selected for funding, the Department of Commerce has no obligation to provide any additional future funding in connection with the award. Renewal of an award to increase funding or extend the period of performance is at the total discretion of the Department of Commerce.

10. Classification

This notice contains collection-of-information requirements subject to the Paperwork Reduction Act. The use of Standard Forms 424, 424A, and SF-LLL have been approved by OMB under the respective control numbers 0348-0043, 0348-0044, and 0348-0046. Notwithstanding any other provision of law, no person is required to respond to nor shall a person be subject to a penalty for failure to comply with a collection of information subject to the requirements of the Paperwork Reduction Act, unless that collection of information displays a currently valid OMB control number. This notice has been determined to be not significant for purposes of Executive Order 12866.

Applications proposed for funding are subject to the requirements of Executive Order 12372, “Intergovernmental Review of Federal Programs”. This Notice has been determined to be “not significant” for purposes of Executive Order 12866. It has been determined that this notice does not contain policies with Federalism implications as that term is defined in Executive Order 13132. Because notice and comment are not required under 5 U.S.C. 553, or any other law, for this notice relating to public property, loans, grants benefits or contracts (5 U.S.C. 553(a)), a Regulatory Flexibility Analysis is not required and has not been prepared for this notice, 5 U.S.C. 601 et seq. Pursuant to Executive Orders 13256, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at: http://www.ed.gov/offices/OCR/99minin.html.

The Department of Commerce Pre-Award Notification of Requirements for Grants and Cooperative Agreements contained in the Federal Register notice of October 1, 2001 (66 FR 49917), as amended by the Federal Register notice published on October 30, 2002 (67 FR 66109), is applicable to this solicitation.

Daniel L. Albritton,
Assistant Administrator (Acting), Office of Oceanic and Atmospheric Research, National Oceanic and Atmospheric Administration.

[FR Doc. 03-10936 Filed 5-2-03; 8:45 am]

BILLING CODE 3510-KB-P